DEPARTMENT OF ENERGY

Federal Energy Regulatory Commission

[Docket No. RP01-246-003]

Natural Gas Pipeline Company of America; Notice of Compliance Filing

November 29, 2001.

Take notice that on November 21, 2001, Natural Gas Pipeline Company of America (Natural) tendered for filing to become part of its FERC Gas Tariff, Sixth Revised Volume No. 1, First Revised Sheet No. 20C and First Revised Sheet No. 199D, to be effective January 1, 2002.

Natural states that the purpose of this filing is to comply with the Commission's “Order Granting Rehearing” issued in Docket No. RP01-246-000 on October 26, 2001.

Natural states that copies of the filing have been mailed to all parties set out on the Commission's official service list in Docket No. RP01-246-000.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-30129 Filed 12-4-01; 8:45 am]

BILLING CODE 6717-01-P